DEPARTMENT OF LABOR

Employment and Training Administration

[TA-W-54,643]

General Electric Consumer Finance, Canton, OH; Notice of Termination of Investigation

Pursuant to section 221 of the Trade Act of 1974, as amended, an investigation was initiated on April 1, 2004, in response to a petition filed on behalf of workers of General Electric Consumer Finance, Canton, Ohio.

The petitioning group of workers is covered by an earlier petition filed on March 24, 2004 (TA-W-54,572), that is the subject of an ongoing investigation for which a determination has not yet been issued. Further investigation in this case would duplicate efforts and serve no purpose; therefore the investigation under this petition has been terminated.

Signed in Washington, DC this 15th day of April, 2004.
Elliott S. Kushner,
Certifying Officer, Division of Trade Adjustment Assistance.

[FR Doc. E4-1011 Filed 5-3-04; 8:45 am]

BILLING CODE 4510-13-P